Executive Order 13369 of January 7, 2005

President's Advisory Panel on Federal Tax Reform

By the authority vested in me as President by the Constitution and the laws of the United States of America, and to assist in reforming the Federal Internal Revenue Code to benefit all Americans, it is hereby ordered as follows:

Section 1. Establishment. There is established the President's Advisory Panel on Federal Tax Reform (Advisory Panel).

Sec. 2. Membership. (a) The Advisory Panel shall be composed of up to nine members appointed by the President.

(b) The President shall designate one member of the Advisory Panel to serve as Chair and one member to serve as Vice Chair.

Sec. 3. Purpose. The purpose of the Advisory Panel shall be to submit to the Secretary of the Treasury in accordance with this order a report with revenue neutral policy options for reforming the Federal Internal Revenue Code. These options should:

(a)

simplify Federal tax laws to reduce the costs and administrative burdens of compliance with such laws;

(b)

share the burdens and benefits of the Federal tax structure in an appropriately progressive manner while recognizing the importance of homeownership and charity in American society; and

(c)

promote long-run economic growth and job creation, and better encourage work effort, saving, and investment, so as to strengthen the competitiveness of the United States in the global marketplace.

At least one option submitted by the Advisory Panel should use the Federal income tax as the base for its recommended reforms.

Sec. 4. Administration. (a) The Department of the Treasury shall provide, to the extent permitted by law, administrative support and funding for the Advisory Panel. The Advisory Panel is established within the Department of the Treasury for administrative purposes only.

(b) The Chair of the Advisory Panel shall convene and preside at the meetings of the Advisory Panel, determine its agenda after consultation with the Vice Chair, and direct its work. The Advisory Panel shall have a staff headed by an Executive Director who shall be selected by the President and report to the Chair.

(c) Members of the Advisory Panel shall serve without compensation for their work on the Advisory Panel. Members of the Advisory Panel who are not officers or employees in the executive branch, while engaged in the work of the Advisory Panel, may be allowed travel expenses, including per diem in lieu of subsistence, as authorized by law for persons serving intermittently in Government service (5 U.S.C. 5701 through 5707), consistent with the availability of funds.

(d) Consistent with applicable law, heads of executive departments and agencies shall provide to the Advisory Panel such assistance, including assignment or detail of personnel, and information as may be necessary for the Advisory Panel to perform its functions.

(e) The Advisory Panel may conduct meetings in appropriate locations throughout the United States to obtain information and advice from Americans of diverse backgrounds and experience and from a diverse range of American entities, including large and small for-profit and non-profit organizations, State, local, and tribal governments, and from other individuals and entities as appropriate. Public hearings shall be held at the call of the Chair.

(f) Insofar as the Federal Advisory Committee Act, as amended (5 U.S.C. App.) (the “Act”), may apply to the Advisory Panel, any functions of the President under that Act, except for those in section 6 of that Act, shall be performed by the Secretary of the Treasury in accordance with the guidelines that have been issued by the Administrator of General Services.

Sec. 5. Report. The Advisory Panel shall submit to the Secretary of the Treasury a report containing policy options in accordance with section 3 of this order as soon as practicable, but not later than July 31, 2005.

Sec. 6. Provisions. (a) Nothing in this order shall be construed to impair or otherwise affect the functions of the Director of the Office of Management and Budget relating to budget, administrative, or legislative proposals.

(b) This order is not intended to, and does not, create any right or benefit, substantive or procedural, enforceable at law or in equity, against the United States, its departments, agencies, entities, officers, employees or agents, or any other person.

Sec. 7. Termination. The Advisory Panel shall terminate 30 days after submitting its report pursuant to section 5 of this order.

B

THE WHITE HOUSE,

January 7, 2005.

[FR Doc. 05-771

Filed 1-11-05; 9:02 am]

Billing code 3195-01-P